DEPARTMENT OF ENERGY

Federal Energy Regulatory Commission

[Project No. 2727-092]

Black Bear Hydro Partners, LLC; Notice of Application Accepted for Filing, Soliciting Motions To Intervene and Protests, Ready for Environmental Analysis, and Soliciting Comments, Recommendations, Terms and Conditions, and Prescriptions

Take notice that the following hydroelectric license application has been filed with the Commission and is available for public inspection.

a. Type of Application: New Major License.

b. Project No.: 2727-092.

c. Date filed: December 30, 2015.

d. Applicant: Black Bear Hydro Partners, LLC (Black Bear Hydro).

e. Name of Project: Ellsworth Hydroelectric Project (Ellsworth Project).

f. Location: On the Union River in Hancock County, Maine. There are no federal or tribal lands within the project boundary.

g. Filed Pursuant to: Federal Power Act 16 U.S.C. 791(a)-825(r).

h. Applicant Contact: Ms. Kelly Maloney, Manager of Licensing and Compliance, Brookfield Renewable Energy Group, 150 Main Street, Lewiston, ME 04240; Telephone: (207) 755-5606.

i. FERC Contact: Dr. Nicholas Palso, (202) 502-8854 or nicholas.palso@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2727-092.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Ellsworth Project consists of two developments (Graham Lake and Ellsworth) with a total installed capacity of 8.9 megawatts (MW). The project's average annual generation is 30,511 megawatt-hours. The power generated by the project is sold to the regional power pool administered by ISO New England, Inc.

Graham Lake Development

The existing Graham Lake Development consists of: (1) A 630-foot-long, 58-foot-high dam that includes: (i) An 80-foot-long, 58-foot-high concrete spillway section with three 20-foot-wide, 22.5-foot-high spillway gates and one 8-foot-wide sluice gate used for downstream fish passage; and (ii) a 550-foot-long, 45-foot-high earthen embankment section with a concrete and sheet pile core wall; (2) an approximately 10,000-acre impoundment (Graham Lake) with a useable storage volume of 133,150 acre-feet at a normal maximum elevation of 104.2 National Geodetic Vertical Datum 1929 (NGVD); (3) a 720-foot-long, 58-foot-high concrete gravity flood control structure and a 65-foot-diameter, 55-foot-high stone-filled sheet pile retaining structure; (4) a 71-foot-long, 36.5-foot-high concrete wing wall; and (5) appurtenant facilities.

Ellsworth Development

The existing Ellsworth Development consists of: (1) A 377-foot-long, 60-foot-high dam that includes: (i) A 102-foot-long, 60-foot-high concrete bulkhead section; and (ii) a 275-foot-long, 57-foot-high concrete overflow spillway with 1.7-foot-high flashboards; (2) an 85-foot-long, 71-foot-high concrete non-over flow wall at the west end of the bulkhead section; (3) a 26-foot-high abutment at the east end of the spillway; (4) a 90-acre impoundment (Lake Leonard) with a gross storage volume of 2,456 acre-feet at a normal maximum elevation of 66.7 feet NGVD; (5) generating facility No. 1 that includes: (i) a 15-foot-wide, 10-foot-high headgate with a 15-foot-wide, 12.5-foot-high trashrack; (ii) a 10-foot-diameter, 74-foot-long penstock; and (iii) a 26-foot-long, 28-foot-wide concrete and masonry powerhouse that is integral to the concrete non-overflow dam section and contains a single 2.5-MW turbine-generator unit; (6) generating facility No. 2 that includes: (i) an 88.4-foot-wide, 32-foot-high intake structure with two, 8-foot-wide, 15-foot-high headgates with 8-foot-wide, 14-foot-high trashracks, and one 12-foot-wide, 15-foot-high headgate with a 12-foot-wide, 14-foot-high trashrack; (ii) an 8-foot-diameter, 164-foot-long penstock, an 8-foot-diameter, 195-foot-long penstock, and a 12-foot-diameter, 225-foot-long penstock; and (iii) a 52.5-foot-long, 68-foot-wide concrete and masonry powerhouse that is attached to a 15-foot-long, 30-foot-wide switch house and that contains two 2.0-MW and one 2.4-MW turbine-generator units; (7) downstream fish passage facilities that include three 3-foot-wide surface weirs and an 18-inch-diameter transport pipe; (8) upstream fish passage facilities that include a 120-foot-long, 8-foot-wide fishway with a 3-foot-wide opening and collection station; (9) a 450-foot-long, 2.3 kilovolt generator lead line and step-up transformer connecting the turbine-generator units to the local utility's electric distribution system; and (10) appurtenant facilities.

The Ellsworth Project operates as a water storage facility and a peaking generation facility, depending on available inflows. Water is stored at the Graham Lake Development to reduce downstream flooding during periods of high flow, and is released during periods of low flow so that minimum flows can be maintained in the Union River below Graham Lake Dam. The ability to store and release water at the Graham Lake Development makes it possible for the Ellsworth Development to operate in a peaking mode during periods of high electric demand.

The existing license requires an instantaneous minimum flow release of 250 cubic feet per second (cfs), or inflow (whichever is less), downstream of each development from May 1 to June 30 each year. The minimum flow release from each development is reduced to 105 cfs from July 1 to April 30 each year. In addition to the minimum flows, the existing license requires Black Bear Hydro to maintain Graham Lake and Lake Leonard between elevations 93.4 and 104.2 feet NGVD and 65.7 and 66.7 feet NGVD, respectively. Black Bear Hydro proposes to continue the current licensed mode of operation, including minimum flow releases. Black Bear Hydro also proposes to install upstream eel passage facilities at the Graham Lake and Ellsworth Developments, construct a canoe portage trail at the Graham Lake Development, and improve angler access at the Graham Lake Development.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

n. Anyone may submit comments, a protest, or a motion to intervene in accordance with the requirements of the Commission's Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. Procedural Schedule:

The application will be processed according to the following revised schedule. Revisions to the schedule may be made as appropriate.

Milestone | Target date
Filing of interventions, protests, comments, recommendations, preliminary terms and conditions, and preliminary fishway prescriptions | April 2018.
Commission issues Draft Environmental Assessment | August 2018.
Comments on Draft Environmental Assessment | October 2018.
Modified terms and conditions, and fishway prescriptions | December 2018.
Commission issues Final Environmental Assessment | March 2019.

Final amendments to the application must be filed with the Commission no later than the comment period listed in item j above.

p. A license applicant must file no later than 60 days following the date of issuance of this notice: (1) A copy of the water quality certification; (2) a copy of the request for certification, including proof of the date on which the certifying agency received the request; or (3) evidence of waiver of water quality certification.

Dated: February 9, 2018.
Kimberly D. Bose,
Secretary.

[FR Doc. 2018-03204 Filed 2-15-18; 8:45 am]

BILLING CODE 6717-01-P